DEPARTMENT OF DEFENSE

GENERAL SERVICES ADMINISTRATION

NATIONAL AERONAUTICS AND SPACE ADMINISTRATION

48 CFR Part 23

[FAC 2005-27; FAR Case 2006-025; Item X; Docket 2007-0001; Sequence 18]

RIN 9000-AK76

Federal Acquisition Regulation; FAR Case 2006-025, Online Representations and Certifications Application Review

AGENCIES: Department of Defense (DoD), General Services Administration (GSA), and National Aeronautics and Space Administration (NASA).

ACTION: Final rule.

SUMMARY: The Civilian Agency Acquisition Council and the Defense Acquisition Regulations Council (Councils) have agreed to adopt as final, without change, an interim rule amending the Federal Acquisition Regulation (FAR) to revise the prescription for use of clauses for the use of Environmental Protection Agency-designated products and toxic chemical release reporting.

DATES: Effective Date: September 17, 2008.

FOR FURTHER INFORMATION CONTACT Mr. Ernest Woodson Procurement Analyst, at (202) 501-3775 for clarification of content. For information pertaining to status or publication schedules, contact the FAR Secretariat at (202) 501-4755. Please cite FAC 2005-27, FAR case 2006-025.

SUPPLEMENTARY INFORMATION:

A. Background

DoD, GSA, and NASA published an interim rule in the Federal Register at 72 FR 46359 on August 17, 2007, to amend FAR 23.406 and 23.906 to revise the prescriptions for the use of 52.223-9 and 52.223-14 to provide for their use under the same circumstances as the prescription for use of their associated provisions. These revisions ensure compliance with the requirements of 40 CFR part 247 and 42 U.S.C. 11023. The comment period closed October 16, 2007. No public comments were received on the rule. The Councils have determined to adopt the interim rule as final, without change.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because the rule revises language that the Office of Management and Budget (OMB) has already approved for obtaining representations and certifications under OMB Control Numbers 9000-0134 and 9000-0139 for compliance with Section 6002 of the Resource Conservation and Recovery Act and the requirements of Executive Order 12969, Emergency Planning and Community Right-to-Know Act of 1986. No comments were received with regard to an impact on small entities.

C. Paperwork Reduction Act

The Paperwork Reduction Act does apply; however, these changes to the FAR do not impose additional information collection requirements to the paperwork burden previously approved under OMB Control Numbers 9000-0134 and 9000-0139.

List of Subjects in 48 CFR Part 23

Government procurement.

Dated: September 9, 2008.
Al Matera,
Director, Office of Acquisition Policy.

Interim Rule Adopted as Final Without Change

Accordingly, under the authority of 40 U.S.C. 121, the interim rule amending 48 CFR part 23 which was published in the Federal Register at 72 FR 46359, August 17, 2007, is adopted as a final rule without change.

[FR Doc. E8-21378 Filed 9-16-08; 8:45 am]

BILLING CODE 6820-EP-S